CONSUMER PRODUCT SAFETY COMMISSION

[Docket No. CPSC-2006-0011]

Notice of Availability of Regulatory Flexibility Act Section 610 Review of the Standard for the Flammability (Open Flame) of Mattress Sets

AGENCY: Consumer Product Safety Commission.

ACTION: Notice of availability.

SUMMARY: The Consumer Product Safety Commission (CPSC) is announcing the availability of a completed rule review under section 610 of the Regulatory Flexibility Act (RFA) for the Standard for the Flammability (Open Flame) of Mattress Sets (Mattress Standard), 16 CFR part 1633. This regulatory review concludes that the Mattress Standard should be maintained without change.¹

¹ The Commissioners voted 5-0 to approve publication of the notice in the Federal Register. Commissioner Joseph P. Mohorovic's Statement Regarding the Commission's Regulatory Flexibility Act Review of the Standard for the Flammability (Open Flame) Of Mattress Sets is available at: https://www.cpsc.gov/About-CPSC/Commissioners/Joseph-Mohorovic/statements.

ADDRESSES: The completed review is available on the CPSC Web site at: https://www.cpsc.gov/Business--Manufacturing/Business-Education/Business-Guidance/Mattresses. The completed review will also be made available through the Federal eRulemaking Portal at https://www.regulations.gov, under Docket No. CPSC-2006-0011, Supporting and Related Materials. Copies may also be obtained from the Consumer Product Safety Commission, Office of the Secretary, Room 820, 4330 East West Highway, Bethesda, MD 20814; telephone (301) 504-7923; email cpsc-os@cpsc.gov.

FOR FURTHER INFORMATION CONTACT: Lisa L. Scott, Fire Protection Engineer, Laboratory Sciences, Consumer Product Safety Commission 5 Research Place, Rockville, MD 20850, Telephone: (301) 987-2064; email: lscott@cpsc.gov.

SUPPLEMENTARY INFORMATION: In 2006, the CPSC issued a Standard for the Flammability (Open Flame) of Mattress Sets under the Flammable Fabrics Act. (71 FR 13472, March 15, 2006). The Mattress Standard set forth test procedures and performance requirements that all mattress sets must meet before being introduced into commerce. These requirements are set forth at 16 CFR part 1633.

On April 3, 2015, the Commission published notice in the Federal Register (80 FR 18218) to announce that the CPSC would review the Mattress Standard in accordance with the regulatory review provisions of section 610 of the RFA (5 U.S.C. 610) and sought public comment on the rule review. This document announces the availability of completed regulatory review of the Mattress Standard.

The purpose of a rule review under section 610 of the RFA is to determine whether, consistent with the CPSC's statutory obligations, this standard should be maintained without change, rescinded, or modified to minimize any significant impact of the rule on a substantial number of small entities. Section 610 requires agencies to consider five factors in reviewing rules to minimize any significant economic impact of the rule on a substantial number of small entities including:

(1) The continued need for the rule;

(2) The nature of complaints or comments received concerning the rule from the public;

(3) The complexity of the rule;

(4) The extent to which the rule overlaps, duplicates or conflicts with other Federal rules, and, to the extent feasible, with State and local governmental rules; and

(5) The length of time since the rule has been evaluated or the degree to which technology, economic conditions, or other factors have changed in the area affected by the rule. 5 U.S.C. 610(b).

The CPSC received 16 written comments representing the views of mattress manufacturers, component manufacturers, fire safety representatives, third party testing bodies, environmental groups, trade associations, and consumers. Staff's briefing package reviews these comments and provides staff's analysis applying the factors listed in section 610 of the RFA to the Mattress Standard. As explained in the staff's briefing package, the staff concludes that the Mattress Standard should be continued without any changes. However, staff believes that stakeholders may benefit from additional outreach and training.

The staff's briefing package containing the review is available on the CPSC Web site at: https://www.cpsc.gov/Business--Manufacturing/Business-Education/Business-Guidance/Mattresses, www.regulations.gov, and from the Commission's Office of the Secretary at the location listed in the ADDRESSES section of this notice.

Dated: December 14, 2016.
Todd A. Stevenson,
Secretary, Consumer Product Safety Commission.

[FR Doc. 2016-30405 Filed 12-16-16; 8:45 am]

BILLING CODE 6355-01-P